Title 3—

The President

Proclamation 9285 of May 20, 2015

National Maritime Day, 2015

By the President of the United States of America

A Proclamation

For over two centuries, proud mariners have set sail in defense of our people and in pursuit of opportunity. Through periods of conflict and times of peace, our Nation has relied on the United States Merchant Marine to transport goods to and from our shores and deliver troops and supplies around the world. On National Maritime Day, we honor the women and men who take to the seas to boost our economy and uphold the values we cherish.

Our Nation is forever indebted to the brave privateers who helped secure our independence, fearlessly supplying our Revolutionary forces with muskets and ammunition. Throughout history, their legacy has been carried forward by courageous seafarers who have faithfully served our Nation as part of the United States Merchant Marine—bold individuals who emerged triumphant in the face of attacks from the British fleet in the War of 1812, and who empowered the Allied forces as they navigated perilous waters during World War II. Today, patriots who share their spirit continue to stand ready to protect our seas and the livelihoods they support.

Ninety percent of the world's commerce moves by sea, and businesses across our country rely on domestic and international trade every day. Helping to protect our vital shipping routes, Merchant Mariners are critical to our effort to combat piracy and uphold the maritime security on which the global supply chain relies. And in times of war or national emergency, they bolster our national security as a “fourth arm of defense.” Whether transporting commercial goods or military equipment, battling tough weather or enemy fire, they strive and sacrifice to secure a brighter future for all Americans. On this day, we reaffirm the importance of their contributions and salute all those who serve this noble cause.

The Congress, by a joint resolution approved May 20, 1933, has designated May 22 of each year as “National Maritime Day,” and has authorized and requested the President to issue annually a proclamation calling for its appropriate observance.

NOW, THEREFORE, I, BARACK OBAMA, President of the United States of America, do hereby proclaim May 22, 2015, as National Maritime Day. I call upon the people of the United States to mark this observance and to display the flag of the United States at their homes and in their communities. I also request that all ships sailing under the American flag dress ship on that day.

IN WITNESS WHEREOF, I have hereunto set my hand this twentieth day of May, in the year of our Lord two thousand fifteen, and of the Independence of the United States of America the two hundred and thirty-ninth.

[FR Doc. 2015-12845

Filed 5-22-15; 11:15 am]

Billing code 3295-F5